ENVIRONMENTAL PROTECTION AGENCY

[EPA-HQ-OPPT-2003-0004; FRL-11406-01-OCSPP]

Access to Confidential Business Information by Abt Associates and Subcontractors

AGENCY: Environmental Protection Agency (EPA).

ACTION: Notice.

SUMMARY: EPA has authorized the following contractor and subcontractors to access information which has been submitted to EPA under all sections of the Toxic Substances Control Act (TSCA), some of which may be claimed or determined to be confidential business information (CBI): Abt Associates of Rockville, MD and Abt's subcontractors as listed in Unit III.

DATES: Access will occur no sooner than October 23, 2023.

ADDRESSES: The docket for this action, identified by docket identification (ID) number EPA-HQ-OPPT-2003-0004, is available at https://www.regulations.gov. Additional instructions on accessing the docket, along with more information about dockets generally, is available at https://www.epa.gov/dockets.

FOR FURTHER INFORMATION CONTACT:

For technical information contact: Colby Lintner, Program Management and Operations Division (7407M), Office of Pollution Prevention and Toxics, Environmental Protection Agency, 1200 Pennsylvania Ave. NW, Washington, DC 20460-0001; telephone number: (202) 564-8182; email address: lintner.colby@epa.gov or contact Adam Schwoerer; telephone number: (202) 564-4767; email address: schwoerer.adam@epa.gov.

For general information contact: The TSCA-Hotline, ABVI-Goodwill, 422 South Clinton Ave., Rochester, NY 14620; telephone number: (202) 554-1404; email address: TSCA-Hotline@epa.gov.

SUPPLEMENTARY INFORMATION:

I. Does this action apply to me?

This action is directed to the public in general. This action may, however, be of interest to all who manufacture, process, or distribute industrial chemicals. Because other entities may also be interested, the Agency has not attempted to describe all the specific entities that may be affected by this action.

II. What is the Agency's authority for taking this action?

This notice is provided pursuant to section 14 of the Toxic Substances Control Act (TSCA), 15 U.S.C. 2601 et seq., and EPA implementing regulations in 40 CFR part 2.

III. What action is the Agency taking?

Under contract number 68HERC23D0004, Abt Associates and its subcontractors as identified in this unit will provide support for Chemical Screening, Review, and Evaluation of New, Existing, and Safer Choice Chemical Substances in accordance with the Performance Work Statement which are vital to Agency personnel to make informed decisions on environmental issues and other information that maybe claimed as TSCA CBI in accordance with the TSCA Security Manual.

In accordance with 40 CFR 2.306(j), EPA has determined that to perform successfully the duties specified under EPA contract number 68HERC23D0004, the contractor and its subcontractors will require access to information that may contain CBI submitted under all sections of TSCA. As such, personnel of the contractor and its subcontractors will be given access to information that may be claimed or determined to be CBI information submitted to EPA under all sections of TSCA.

EPA is issuing this notice to inform all submitters of information under all sections of TSCA that EPA will provide the herein identified contractor and its subcontractors with access to the CBI materials on a need-to-know basis only. All access to TSCA CBI under this contract will take place at the

EPA Headquarters, and/or at the following facilities of the contractor and/or subcontractors:

• Abt Associates, located at 6130 Executive Boulevard, Rockville, MD 20852;

• Chickasaw Health Consulting LLC, located at 2600 John Saxton Blvd., Norman, OK 73071;

• Consortium Environmental Risk Management (CERM), located at 9 Union Street, 3rd Floor Hollowell, MD 04347;

• Environmental Health & Engineering Inc (EH&E), located at 180 Wells Avenue, Suite 200, Newton, MA 02459;

• Environmental Management Support, Inc (EMS), located at 8455 Colesville Road, Suite 700, Silver Spring, MD 20910;

• Essential Software, Inc (ESI), located at 9024 Mistwood Drive, Rockville, MD 20854;

• Gnarly Tree Sustainability Institute (Gnarly Tree), located at 7478 E Rush Ridge Road, Bloomington, IN 47401;

• Green Street Communications, located at 7686 Richmond Highway @113, Alexandria, VA 22306;

• LightSpeed Edu, located at 652 Gaylord Mountain Road, Hamden, CT 06518;

• Mabbett & Associates, Inc., located at 105 Central Street, Suite 4100, Stoneham, MA 02180;

• Pacific Northwest Pollution Prevention Resource Center (PPRC), located at 8620 Holly Drive #250, Everett, WA 98208;

• QuanTech Services Inc., located at 1 Hartwell Place, Second Floor, Lexington, MA 02421;

• Risk Sciences International Inc. (RSI), located at 700-251 Laurier Avenue W, Ottawa, ON K1P5J6 Canada;

• Toxics Used Reduction Institute (TURI), located at The Offices at Boott Milles West 126 John Street, Suite 14 (Second Floor), Lowell, MA 01852;

• University of Alaska Fairbanks (UAF), 1731 South Chandalar Drive, Fairbanks, AK 99775;

• Versar Inc., located at 105 Vermont Avenue NW, Suite 500, Washington, DC 20005; and

• At the telework locations of the personnel of the contractor and subcontractors in accordance with EPA's TSCA CBI Protection Manual and the Rules of Behavior for Virtual Desktop Access to OPPT Materials, including TSCA CBI.

Access to TSCA data, including CBI, will continue until November 30, 2027. If the contract is extended, this access will also continue for the duration of the extended contract without further notice.

The personnel of the contractor and subcontractors will be required to sign nondisclosure agreements and will be briefed on specific security procedures for TSCA CBI.

Authority: 15 U.S.C. 2601 et seq.

Dated: October 11, 2023.
Pamela Myrick,
Director, Project Management and Operations Division, Office of Pollution Prevention and Toxics.

[FR Doc. 2023-22781 Filed 10-13-23; 8:45 am]

BILLING CODE 6560-50-P